DEPARTMENT OF HOMELAND SECURITY

Federal Emergency Management Agency

44 CFR Part 67

[Docket ID FEMA-2008-0020; Internal Agency Docket No. FEMA-B-1069]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before December 14, 2009.

ADDRESSES: The corresponding preliminary Flood Insurance Rate Map (FIRM) for the proposed BFEs for each community is available for inspection at the community's map repository. The respective addresses are listed in the table below.

You may submit comments, identified by Docket No. FEMA-B-1069, to Kevin C. Long, Acting Chief, Engineering Management Branch, Mitigation Directorate, Federal Emergency Management Agency, 500 C Street, SW., Washington, DC 20472, (202) 646-2820, or (e-mail) kevin.long@dhs.gov.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Fairbanks North Star Borough, Alaska, and Incorporated Areas
Chena River | Just upstream of University Avenue | +431 | +432 | Fairbanks North Star Borough.
| Approximately 4.0 miles downstream of Parks Highway | +431 | +432
Tanana River | Approximately 3.2 miles downstream of the confluence with the Chena River | None | +427 | Fairbanks North Star Borough.
| Approximately 37.3 miles upstream of the confluence with the Chena River | None | +609
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Fairbanks North Star Borough
Maps are available for inspection at the Borough Administrative Center, 809 Pioneer Road, Fairbanks, AK 99701.
Pima County, Arizona, and Incorporated Areas
Ponding Areas (AH Zones) | Extensive ponding areas north of I-10 Frontage Road (northern wash lowest elevation) (FIRM panels affected: 0420 and 1010) | None | +1,947 | Town of Marana, Unincorporated Areas of Pima County.
| Extensive ponding areas north of I-10 Frontage Road (northern wash highest elevation) (FIRM panels affected: 0420 and 1010) | None | +1,952
| Extensive ponding areas north of I-10 Frontage Road (southern wash lowest elevation) (FIRM panels affected: 1010, 1030, 1035, 1045, 1065, and 1655) | None | +1,948
| Extensive ponding areas north of I-10 Frontage Road (southern wash highest elevation) (FIRM panels affected: 1010, 1030, 1035, 1045, 1065, and 1655) | None | +2,184
Sheet Flow Areas (AO Zones) | Extensive sheet flow areas in the vicinity of Central Arizona Project Canal (lowest depth) (FIRM panels affected: 0420, 0440, 0445, 1010, 1030, 1035, 1045, 1055, 1060, 1065, 1070, and 1655) | None | #1 | Town of Marana, Unincorporated Areas of Pima County.
| Extensive sheet flow areas in the vicinity of Central Arizona Project Canal (highest depth) (FIRM panels affected: 0420, 0440, 0445, 1010, 1030, 1035, 1045, 1055, 1060, 1065, 1070, and 1655) | None | #4
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Town of Marana
Maps are available for inspection at the Engineering Department, 11555 West Civic Center Drive, Marana, AZ 85653.
Unincorporated Areas of Pima County
Maps are available for inspection at the Pima County Flood Control District Offices, 97 East Congress Street, 3rd Floor, Tucson, AZ 85701.
New Haven County, Connecticut, and Incorporated Areas
Bladens River (Upper Reach) | At a point located approximately 2,053 feet downstream of Bear Hill Road | None | +230 | Town of Seymour.
| At a point located approximately 1,903 feet downstream of Bear Hill Road | None | +231
Branford River (Lower Reach) | At a point located approximately 0.51 mile upstream of School Ground Road | None | +31 | Town of North Branford.
| At a point located approximately 0.64 mile upstream of School Ground Road | None | +32
Coginchaug River | At county boundary | None | +199 | Town of Guilford.
| Approximately 26 feet upstream of county boundary | None | +199
Cove River | At a point located approximately 0.44 mile upstream of Fresh Meadow Road | None | +141 | Town of Orange.
| At a point located approximately 0.58 mile upstream of Fresh Meadow Road | None | +146
Farm River | At a point located approximately 700 feet downstream of West Main Road (U.S. Route 1) | +11 | +10 | Town of East Haven, Town of Branford.
| At mouth of Farm River | +14 | +15
Housatonic River | At a point located approximately 1.7 miles upstream of Merritt Parkway | +15 | +14 | City of Milford.
| At a point located approximately 2.2 miles upstream of Merrit Parkway | +16 | +14
Mad River (Lower reach) | Approximately 73 feet upstream of Sharon Road | None | +461 | City of Waterbury.
| Approximately 800 feet upstream of Sharon Road | None | +461
Naugatuck River | At a point located approximately 0.65 miles downstream of Kinneytown Dam | +44 | +40 | Town of Seymour.
| At a point located approximately 0.53 miles downstream of Kinneytown Dam | +44 | +43
Neck River | Just downstream of Fort Path Road | +16 | +15 | Town of Madison, Town of Guilford.
| Approximately 0.8 mile upstream of Blinn Shed Road | None | +143
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Milford
Maps are available for inspection at the Planning and Zoning Office, 70 West River Street, Milford, CT 06460.
City of Waterbury
Maps are available for inspection at the Public Works Department, 26 Kendrick Avenue, 2nd Floor, Waterbury, CT 06702.
Town of Branford
Maps are available for inspection at the Town Hall, 1019 Main Street, Branford, CT 06405.
Town of East Haven
Maps are available for inspection at the Engineering Office, 461 North High Street, East Haven, CT 06512.
Town of Guilford
Maps are available for inspection at the Guilford Town Hall South, 50 Boston Street, Guilford, CT 06437.
Town of Madison
Maps are available for inspection at the Town Hall, 8 Campus Drive, Madison, CT 06443.
Town of North Branford
Maps are available for inspection at the Town Hall, 909 Foxon Road, North Branford, CT 06471.
Town of Orange
Maps are available for inspection at the Town Hall, 617 Orange Center Road, Orange, CT 06477.
Town of Seymour
Maps are available for inspection at the Town Hall, One 1st Street, Seymour, CT 06483.
Jo Daviess County, Illinois, and Incorporated Areas
Mississippi River Backwater | Third Street Channel, upstream side of the railroad | None | +610 | City of East Dubuque.
| Approximately 200 feet northwest of First Street | None | +610
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of East Dubuque
Maps are available for inspection at City Hall, 303 Sinsinawa Avenue, East Dubuque, IL 61025.
Polk County, Iowa, and Incorporated Areas
Barrier Dam Pond | Entire shoreline | None | +846 | Unincorporated Areas of Polk County, City of Polk.
Big Creek Lake | Entire shoreline | None | +926 | Unincorporated Areas of Polk County.
Des Moines River | Approximately 1 mile downstream of 45th Street crossing | +782 | +783 | City of Des Moines, City of Pleasant Hill, Unincorporated Areas of Polk County.
| At Interstate 80 crossing | +805 | +806
Fourmile Creek | At the confluence with the Des Moines River | +781 | +782 | City of Des Moines, City of Pleasant Hill, Unincorporated Areas of Polk County.
| Approximately 575 feet downstream of NE., 46th Avenue crossing | +828 | +829
Little Creek (Backwater from Big Creek Lake) | Confluence with Big Creek Lake | None | +926 | Unincorporated Areas of Polk County.
| Approximately 0.53 miles downstream of 146th Avenue | None | +926
Mosquito Creek (Backwater from Saylorville Lake) | Confluence with Saylorville Lake | None | +890 | Unincorporated Areas of Polk County.
| Approximately 0.55 miles above 128th Street | None | +890
Raccoon River | At the confluence with the Des Moines River | +795 | +797 | City of Des Moines, City of West Des Moines.
| At the City of Des Moines/City of West Des Moines boundary | +813 | +816
Saylorville Lake | Entire shoreline | None | +890 | Unincorporated Areas of Polk County, City of Johnston.
Turkey Creek (Backwater from Big Creek Lake) | Confluence with Big Creek Lake | None | +926 | Unincorporated Areas of Polk County.
| Approximately 1,000 feet upstream from confluence with Big Creek Lake | None | +926
Walnut Creek | Approximately 650 feet downstream of 52nd Street crossing | +808 | +810 | City of Des Moines, City of West Des Moines, City of Windsor Heights.
| At Center Street crossing | +824 | +825
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Des Moines
Maps are available for inspection at 400 Robert D. Ray Drive, Des Moines, IA 50309.
City of Johnston
Maps are available for inspection at 6221 Merle Hay Road, Johnston, IA 50131.
City of Pleasant Hill
Maps are available for inspection at 5160 Maple Drive, Pleasant Hill, IA 50327.
City of Polk
Maps are available for inspection at 112 3rd Street, Polk, IA 50226.
City of West Des Moines
Maps are available for inspection at 4200 Mills Civic Parkway, West Des Moines, IA 50265.
City of Windsor Heights
Maps are available for inspection at 1133 66th Street, Windsor Heights, IA 50311.
Unincorporated Areas of Polk County
Maps are available for inspection at 111 Court Avenue, Des Moines, IA 50309.
Calloway County, Kentucky, and Incorporated Areas
Anderson Creek (Backwater effects from Kentucky Lake) | From confluence with Kentucky Lake to approximately 0.7 miles upstream of confluence with Kentucky Lake | None | +375 | Unincorporated Areas of Calloway County.
Bailey Hollow (Backwater effects from Kentucky Lake) | From confluence with Kentucky Lake to approximately 0.5 miles upstream of confluence with Kentucky Lake | None | +375 | Unincorporated Areas of Calloway County.
Bee Creek | Just upstream of confluence with Clarks River | None | +457 | Unincorporated Areas of Calloway County, City of Murray.
| Just downstream of railroad | None | +463
Beechy Creek (Backwater effects from Kentucky Lake) | From confluence with Kentucky Lake to approximately 1.5 miles upstream of confluence with Kentucky Lake | None | +375 | Unincorporated Areas of Calloway County.
Blood River (Backwater effects from Kentucky Lake) | From confluence with Kentucky Lake to approximately 2.8 miles upstream of confluence with Kentucky Lake | None | +375 | Unincorporated Areas of Calloway County.
Blood River Tributary 1 (Backwater effects from Kentucky Lake) | From confluence with Kentucky Lake to approximately 0.7 miles upstream of confluence with Kentucky Lake | None | +375 | Unincorporated Areas of Calloway County.
Blood River Tributary 5 (Backwater effects from Kentucky Lake) | From confluence with Kentucky Lake to approximately 0.6 miles upstream of confluence with Kentucky Lake | None | +375 | Unincorporated Areas of Calloway County.
Brush Creek (Backwater effects from Kentucky Lake) | From confluence with Kentucky Lake to approximately 0.4 miles upstream of confluence with Kentucky Lake | None | +375 | Unincorporated Areas of Calloway County.
Clarks River | Approximately 0.75 mile upstream of confluence with Clarks River Tributary 14 | None | +437 | Unincorporated Areas of Calloway County, City of Murray.
| At confluence with East and Middle Fork Clarks River | None | +479
Clayton Creek (Backwater effects from Clarks River) | From confluence with Clarks River to approximately 0.7 mile upstream of confluence with Clarks River | None | +468 | Unincorporated Areas of Calloway County.
Dog Creek (Backwater effects from Kentucky Lake) | From confluence with Blood River to approximately 0.8 miles upstream of confluence with Blood River | None | +375 | Unincorporated Areas of Calloway County.
East Fork Clarks River | At confluence with Clarks and Middle Fork Clarks River | None | +479 | Unincorporated Areas of Calloway County, City of Murray.
| Approximately 0.9 miles upstream of confluence with Middle Fork Clarks River | None | +482
Goose Creek (Backwater effects from Kentucky Lake) | From confluence with Dog Creek to approximately 0.2 miles upstream of confluence with Dog Creek | None | +375 | Unincorporated Areas of Calloway County.
Grindstone Creek (Backwater effects from Kentucky Lake) | From confluence with Blood River Tributary 1 to approximately 0.2 miles upstream of confluence with Blood River Tributary 1 | None | +375 | Unincorporated Areas of Calloway County.
Jonathan Creek (Backwater effects from Kentucky Lake) | From county boundary to approximately 1 mile upstream of county boundary | None | +375 | Unincorporated Areas of Calloway County.
Kentucky Lake | Entire shoreline of Kentucky Lake | None | +375 | Unincorporated Areas of Calloway County.
Ledbetter Creek (Backwater effects from Kentucky Lake) | From confluence with Kentucky Lake to approximately 0.6 miles upstream of confluence with Kentucky Lake | None | +375 | Unincorporated Areas of Calloway County.
Little Sugar Creek (Backwater effects from Kentucky Lake) | From confluence with Kentucky Lake to approximately 0.5 miles upstream of confluence with Kentucky Lake | None | +375 | Unincorporated Areas of Calloway County.
Middle Fork Clarks River | At confluence with Clarks and East Middle Fork Clarks River | None | +479 | Unincorporated Areas of Calloway County, City of Murray.
| Approximately 1,000 feet downstream of US 641 | None | +481
Panther Creek (Backwater effects from Kentucky Lake) | From confluence with Kentucky Lake to approximately 1.1 miles upstream of confluence with Kentucky Lake | None | +375 | Unincorporated Areas of Calloway County.
Shannon Creek (Backwater effects from Kentucky Lake) | From confluence with Kentucky Lake to approximately 0.6 miles upstream confluence with Kentucky Lake | None | +375 | Unincorporated Areas of Calloway County.
Snipe Creek (Backwater effects from Kentucky Lake) | From confluence with Kentucky Lake to approximately 0.4 miles upstream of confluence with Kentucky Lake | None | +375 | Unincorporated Areas of Calloway County.
Sugar Creek (Backwater effects from Kentucky Lake) | From confluence with Kentucky Lake to approximately 0.8 miles upstream of confluence with Kentucky Lake | None | +375 | Unincorporated Areas of Calloway County.
Sugar Creek Tributary 2 (Backwater effects from Kentucky Lake) | From confluence with Kentucky Lake to approximately 0.5 miles upstream of confluence with Kentucky Lake | None | +375 | Unincorporated Areas of Calloway County.
Tan Branch (Backwater effects from Kentucky Lake) | From confluence with Kentucky Lake to approximately 0.7 miles upstream of confluence with Kentucky Lake | None | +375 | Unincorporated Areas of Calloway County.
Tennessee River Tributary 75 (Backwater effects from Kentucky Lake) | From confluence with Kentucky Lake to approximately 0.7 miles upstream of confluence with Kentucky Lake | None | +375 | Unincorporated Areas of Calloway County.
Tennessee River Tributary 91 (Backwater effects from Kentucky Lake) | From confluence with Kentucky Lake to approximately 0.5 miles upstream of confluence with Kentucky Lake | None | +375 | Unincorporated Areas of Calloway County.
Tributary 1 to Clarks River | At confluence with Clarks River | None | +470 | Unincorporated Areas of Calloway County.
| Approximately 1,800 feet upstream of confluence with Clarks River | None | +473
Tributary to Middle Fork Clarks River | At confluence with Middle Fork Clarks River | None | +479 | Unincorporated Areas of Calloway County.
| Approximately 1,700 feet upstream of confluence with Middle Fork Clarks River | None | +484
Wildcat Creek (Backwater effects from Kentucky Lake) | From confluence with Kentucky Lake to approximately 1.2 miles upstream of confluence with Kentucky Lake | None | +375 | Unincorporated Areas of Calloway County.
Yellow Spring Branch (Backwater effects from Kentucky Lake) | From confluence with Kentucky Lake to approximately 0.4 miles upstream of confluence with Kentucky Lake | None | +375 | Unincorporated Areas of Calloway County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Murray
Maps are available for inspection at 104 North 5th Street, Murray, KY 42071.
Unincorporated Areas of Calloway County
Maps are available for inspection at 101 South 5th Street, Murray, KY 42071.
Clare County, Michigan, and Incorporated Areas
Budd Lake | Entire shoreline of Budd Lake | None | +1,114 | City of Harrison, Township of Hayes.
Doc and Tom Lake | Entire shoreline of Doc and Tom Lake | None | +1,067 | Township of Freeman.
Eight Point Lake | Entire shoreline of Eight Point Lake | None | +1,053 | Township of Garfield.
Grass Lake | Entire shoreline of Grass Lake | None | +1,081 | Township of Freeman.
Lake Shamrock | Entire shoreline of Lake Shamrock | None | +826 | City of Clare, Township of Grant.
Surrey Lake | Entire shoreline of Surrey Lake | None | +958 | Township of Surrey.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Acting Chief, Engineering Management Branch, Mitigation Directorate, Federal Emergency Management Agency, 500 C Street, SW., Washington, DC 20472.
ADDRESSES
City of Clare
Maps are available for inspection at 202 West 5th Street, Clare, MI 48617.
City of Harrison
Maps are available for inspection at 229 East Beech Street, Harrison, MI 48625.
Township of Freeman
Maps are available for inspection at 7280 West Mannsiding Road, Lake, MI 48632.
Township of Garfield
Maps are available for inspection at 9348 Terry Street, Lake, MI 48632.
Township of Grant
Maps are available for inspection at 3022 Surrey Road, Clare, MI 48617.
Township of Hayes
Maps are available for inspection at 2051 East Townline Lake Road, Harrison, MI 48625.
Township of Surrey
Maps are available for inspection at 110 East Michigan Street, Farwell, MI 48622.
Cibola County, New Mexico, and Incorporated Areas
Grants Canyon Creek | At the confluence with Rio San Jose | +6,426 | +6,429 | City of Grants.
| Approximately 900 feet upstream of De Norte Blvd | +6,490 | +6,495
Rio San Jose | Approximately 1,900 feet downstream of the Burling Northern Santa Fe Railroad | +6,409 | +6,412 | City of Grants, Unincorporated Areas of Cibola County, Village of Milan.
| Just upstream of Stanley Avenue | +6,529 | +6,533
Zuni Canyon | At the confluence with the Rio San Jose | +6,505 | +6,506 | City of Grants, Unincorporated Areas of Cibola County, Village of Milan.
| Approximately 0.5 miles upstream of North Quail Lane | None | +6,545
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Grants
Maps are available for inspection at 600 West Santa Fe Avenue, Grants, NM 87020.
Unincorporated Areas of Cibola County
Maps are available for inspection at Rural Addressing, 515 West High Street, Grants, NM 87020.
Village of Milan
Maps are available for inspection at the Milan Court System Building, 628 Uranium Avenue, Milan, NM 87021.
San Miguel County, New Mexico, and Incorporated Areas
Arroyo Hermanos | At the confluence with Gallinas Creek | +6,438 | +6,448 | City of Las Vegas.
| Just downstream of Lopez Street | +6,491 | +6,493
Arroyo Pajarito | At the confluence with Gallinas Creek | +6,418 | +6,415 | City of Las Vegas.
| Just downstream of Salazar Street | +6,472 | +6,476
Arroyo Pecos | Approximately 0.8 miles downstream of East Frontage Road | None | +6,381 | City of Las Vegas, Unincorporated Areas of San Miguel County.
| Just upstream of Las Vegas Boulevard | None | +6,458
Gallinas Creek | Just upstream of Interstate 25 | None | +6,381 | City of Las Vegas, Unincorporated Areas of San Miguel County.
| Approximately 0.4 miles downstream of El Camino Road | None | +6,515
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Las Vegas
Maps are available for inspection at San Miguel County Planning and Zoning Office, 500 West National Street, Third Floor, Las Vegas, NM 87701.
Unincorporated Areas of San Miguel County
Maps are available for inspection at the County Assessor's Office, 500 West National Street, Suite 105, Las Vegas, NM 87701.
Custer County, Oklahoma, and Incorporated Areas
Tributary 1 (Unnamed stream) | Approximately 600 feet upstream of confluence with Tributary 2 | None | +1,491 | Unincorporated Areas of Custer County.
| Approximately 200 feet downstream of Terrace Drive | None | +1,527
Tributary 2 (Unnamed stream) | Approximately 500 feet upstream of confluence with Tributary 1 | None | +1,499 | Unincorporated Areas of Custer County.
| Just upstream of South 13th Street | None | +1,537
Washita River | Approximately 0.61 miles downstream of State Highway 40 | None | +1,484 | Unincorporated Areas of Custer County.
| Approximately 1.04 miles upstream of Highway 183 | None | +1,495
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Custer County
Maps are available for inspection at the County Courthouse, 675 B Street, Arapaho, OK 73620.
Lawrence County, South Dakota, and Incorporated Areas
Hungry Hollow Gulch | Approximately 350 feet downstream of Ames Avenue | +3,634 | +3,632 | City of Spearfish.
| Approximately 645 feet upstream of St. Joe Street | +3,697 | +3,699
Ice House Creek | Approximately 25 feet upstream of Grant Street | None | +3,658 | City of Spearfish.
| Approximately 50 feet upstream of State Street | None | +3,686
Ice House Creek Tributary A | Approximately 73 feet downstream of 8th Street | None | +3,663 | City of Deadwood.
| Approximately 150 feet downstream of State Street | None | +3,671
Riggs Gulch | Approximately 200 feet downstream of US Highway 14A | None | +3,764 | City of Spearfish.
| Approximately 920 feet upstream of Colorado Boulevard | None | +3,843
Spearfish Creek | Just downstream of Utah Boulevard | +3,569 | +3,570 | City of Spearfish, Unincorporated Areas of Lawrence County.
| Approximately 1,300 feet upstream of Winterville Drive | +3,725 | +3,726
Unnamed Tributary to Higgins Gulch | Approximately 4,430 feet downstream of Interstate 90 West ramp | None | +3,440 | City of Spearfish.
| Approximately 1,500 feet downstream of Interstate 90 West ramp | None | +3,491
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Deadwood
Maps are available for inspection at 62½ Dunlap Street, c/o Jim Winterton, Deadwood, SD 57732.
City of Spearfish
Maps are available for inspection at 625 5th Street, c/o Community Map Repository, Spearfish, SD 57783.
Unincorporated Areas of Lawrence County
Maps are available for inspection at 90 Sherman Street, c/o Map Repository, Deadwood, SD 57732.
Spink County, South Dakota, and Incorporated Areas
James River | Approximately 2.8 miles upstream of 188th Street | None | +1,253 | Unincorporated Areas of Spink County.
| Approximately 7,920 feet downstream of 149th Street | None | +1,275
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Spink County
Maps are available for inspection at 210 East 7th Avenue, Redfield, SD 57469.
Gonzales County, Texas, and Incorporated Areas
Baldridge Creek | Approximately 1 mile downstream of Highway 97 | None | +350 | Unincorporated Areas of Gonzales County.
| Approximately 1,400 feet upstream of US Highway 90 West | None | +368
Guadalupe River | At the confluence with Tinsley Creek | None | +278 | City of Gonzales, Unincorporated Areas of Gonzales County.
| Approximately 1.4 miles downstream of County Road 466 | None | +286
Tinsley Creek | Approximately 530 feet upstream of Weimer Street | None | +294 | City of Gonzales.
| Just upstream of Sarah DeWitt Drive | None | +303
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Gonzales
Maps are available for inspection at P.O. Box 547, Gonzales, TX 78629.
Unincorporated Areas of Gonzales County
Maps are available for inspection at 414 Saint Joseph Street, Gonzales, TX 78629.
Caldwell County, Texas, and Incorporated Areas
Plum Creek | Just downstream of Hays County Boundary | None | +538 | City of Uhland.
| Approximately 1,465 feet downstream of Hays County Boundary | None | +540
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Uhland
Maps are available for inspection at 17 Cotton Gin Road, Uhland, TX 78640.
Lavaca County, Texas, and Incorporated Areas
Lavaca River | At the Confluence with Rickaway Branch | None | +213 | Unincorporated Areas of Lavaca County.
| Approximately 300 feet downstream of confluence with Campbell Branch | None | +229
Rickaway Branch | Approximately 2,500 feet upstream of confluence with Lavaca River | None | +213 | Unincorporated Areas of Lavaca County.
| Approximately 0.66 miles upstream of Cemetery Road | None | +239
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Lavaca County
Maps are available for inspection at 201 North La Grange Street, P.O. Box 243, Hallettsville, TX 77964.
Montague County, Texas, and Incorporated Areas
Cowskin Creek | Approximately 1,500 feet downstream of the Wise County Line | None | +921 | Unincorporated Areas of Montague County.
| Just downstream of the Wise County Line | None | +931
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Montague County
Maps are available for inspection at 101 East Franklin Street, Montague, TX 76251.
Sanpete County, Utah, and Incorporated Areas
South Creek | Approximately 362 feet east of 100 S | None | +5,531 | Unincorporated Areas of Sanpete County, City of Manti.
| Approximately 596 feet upstream of the confluence with Manti Creek | None | +5,838
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Manti
Maps are available for inspection at City Hall, 50 South Main Street, Manti, UT 84642.
Unincorporated Areas of Sanpete County
Maps are available for inspection at the County Building and Zoning Office, 160 North Main Street, Manti, UT 84642.

(Catalog of Federal Domestic Assistance No. 97.022, “Flood Insurance.”)

Edward L. Connor,
Acting Assistant Administrator for Mitigation, Mitigation Directorate, Department of Homeland Security, Federal Emergency Management Agency.

[FR Doc. E9-22135 Filed 9-14-09; 8:45 am]

BILLING CODE 9110-12-P